DEPARTMENT OF TRANSPORTATION

Federal Aviation Administration

Eighty-Fourth Meeting: RTCA Special Committee (147) Minimum Operational Performance Standards for Traffic Alert and Collision Avoidance Systems Airborne Equipment

AGENCY: Federal Aviation Administration (FAA), U.S. Department of Transportation (DOT).

ACTION: Notice of Eighty-Fourth RTCA Special Committee 147 Meeting.

SUMMARY: The FAA is issuing this notice to advise the public of the Eighty-Fourth RTCA Special Committee 147 meeting.

DATES: The meeting will be held March 15-17, 2016 from 9:00 a.m.-5:00 p.m.

ADDRESSES: The meeting will be held at Drury Inn and Suites Phoenix, 2335 W. Pinnacle Peak Rd, Phoenix, AZ, 85027, Tel: (202) 330-0680.

FOR FURTHER INFORMATION CONTACT: The RTCA Secretariat, 1150 18th Street NW., Suite 910, Washington, DC 20036, or by telephone at (202) 833-9339, fax at (202) 833-9434, or Web site at http://www.rtca.org or Albert Secen, Program Director, RTCA, Inc., asecen@rtca.org, (202) 330-0647.

SUPPLEMENTARY INFORMATION: Pursuant to section 10(a)(2) of the Federal Advisory Committee Act (Pub. L. 92-463, 5 U.S.C., App.), notice is hereby given for a meeting of RTCA Special Committee 147. The agenda will include the following:

Tuesday, March 15, 2016

1. TWG Agenda

a. Review of TWG Activity List/Schedule

b. Run 14 Stress Testing

c. MOPS Test Status Review

d. High Performance Encounter Updates

e. Climb Inhibits

f. Metrics Matrix Updates/Acceptability Criteria

g. ASIM/Test Suite Update

h. MOPS Review

2. SWG Agenda

a. Review of SWG Activity List/Schedule

b. Passive Surveillance Requirements Review/Walkthrough

c. Passive Surveillance Tests Examples

d. Review Planned Changes for Run 15 STM

e. STM-related MOPS Reviews

f. Updated LA Basin Analysis Against Proposed Mode C Algorithms

g. Downlink Messages

h. Misc. Smaller Topics/Meeting Close

Wednesday, March 16, 2016

1. SWG & TWG Agenda

a. Change Process for Run 15

b. 2015 Flight Test Summary—Run 15 Focus

c. Data Tables Formatting and MOPS

d. Documentation

e. ACAS Xo Updates/Open Items

f. EUROCONTROL Report (SEGMENT, CAFÉ)

g. OWG/OWS Updates

h. Report from CSG

i. Julia Overview

Thursday, March 17, 2016

1. Plenary Agenda

a. Opening Plenary Session

i. Chairmen's Opening Remarks/Introductions

ii. Approval of Minutes from 83rd meeting of SC-147

iii. Approval of Agenda

b. WG-75 Update

c. SESAR 1 Update

d. S2020 Safety Nets

e. Working Group Reports

i. Report from WG-1 (Surveillance and Tracking)

ii. Report from WG-2 (Threat Resolution)

iii. Report from Safety Sub-Group

iv. Report from Xo Sub-Group

v. Report from Coordination Sub-Group

vi. Report from OWG/OWS

vii. Report from Xu subgroup

f. Review of the ADD and RMJM

g. Overflow

h. Closing Session

i. Next Meeting Location

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on February 23, 2016.
Latasha Robinson,
Management & Program Analyst, NextGen, Enterprise Support Services Division, Federal Aviation Administration.

[FR Doc. 2016-04210 Filed 2-25-16; 8:45 am]

BILLING CODE 4910-13-P